DEPARTMENT OF HEALTH AND HUMAN SERVICES

Centers for Disease Control and Prevention

[30Day-11-11BF]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Contact Investigation Outcome Reporting Forms—New—National Center for Emerging, Zoonotic and Infectious Diseases (NCEZID), Centers for Disease Control and Prevention (CDC).

Background and Brief Description

CDC proposes to collect passenger-level, epidemiologic, demographic, and health status data from state/local Health Departments and maritime operators at the conclusion of contact investigations of individuals believed to have been exposed to a communicable disease during travel. The information requested by CDC would be obtained by the health departments or maritime operators while conducting the contact investigation according to their established policies and procedures, and would be reported to CDC on a voluntary basis. This information will assist CDC in fulfilling its regulatory responsibility to prevent the importation of communicable diseases from foreign countries (42 CFR part 71) and interstate control of communicable diseases in humans (42 CFR part 70). To perform these tasks in a streamlined manner and ensure that all relevant information is collected in the most efficient and timely manner possible, Quarantine Stations use a number of forms: Contact Investigation Outcome Reporting Forms: (1) Optional TB Air/Land Contact Investigation Outcome Reporting, (2) Optional Measles, Mumps, or Rubella Air/Land Contact Investigation Outcome Reporting, (3) Optional General Air/Land Contact Investigation Outcome Reporting Form, (4) Optional TB Maritime Contact Investigation Outcome Reporting Form, (5) Optional Measles, Mumps or Rubella Maritime Contact Investigation Outcome Reporting Form, (6) Optional General Maritime Contact Investigation Outcome Reporting Form.

Section 361 of the Public Health Service (PHS) Act (42 U.S.C. 264) authorizes the Secretary of Health and Human Services to make and enforce regulations necessary to prevent the introduction, transmission or spread of communicable diseases from foreign countries into the United States. The regulations that implement this law, 42 CFR Parts 70 and 71, require conveyances to report an “ill person” or any death onboard to authorized quarantine officers and other personnel to inspect and undertake necessary control measures with respect to conveyances (e.g., airplanes, cruise ships), persons, and shipments of animals and etiologic agents in order to protect the public health. The notification is made possible by contacting individuals who may have been exposed to a communicable disease during travel and their contacts, and investigating this exposure so that the necessary medical or public health interventions can be implemented.

CDC provides state and local health departments and maritime conveyance operators with information to notify and contact individuals and further investigate this exposure by contacting others who may have been potentially exposed to disease. However, there currently is no standardized tool or form to collect pertinent information regarding the outcome of such investigations.

To address the need to inform CDC of additional actions that may be needed to further protect public health based on the outcome of the contact investigations, CDC has developed six forms to assist health departments and maritime conveyance operators in reporting back to CDC. The forms are specific to the nature of the investigation; Tuberculosis (TB), Measles, Mumps, and Rubella or the General forms specific to other diseases of public health concern. The purpose of the forms is the same: to collect information to help CDC quarantine officials to fully understand the extent of disease spread and transmission during travel and to inform the development and or refinement of investigative protocols, aimed at reducing the spread of communicable disease.

All six forms collect the following categories of information: Heath status of traveler, clinical history including diagnosis, and interventions related to exposure.

Respondents are state and local health departments and maritime conveyance operators. Respondents will use these standardized forms to submit data to CDC for each individual contacted via a secure means of their choice, e.g., web-based application, fax or e-mail.

The estimated total burden on the public, included in the chart below, can vary a great deal depending on the number of flights and the number of individuals identified as contacts that are assigned to a given health jurisdiction in the U.S. There is no cost to respondents other than their time. The total estimated annual burden hours are 280.

Estimate Annualized Burden Hours
Respondents | Number of respondents | Number of responses/ respondent | Average burden/ response (in hours)
State/Local health department staff | 2154 | 1 | 5/60
State/Local health department staff | 367 | 1 | 5/60
State/Local health department staff | 456 | 1 | 5/60
Maritime Operators | 190 | 1 | 5/60
Maritime Operators | 140 | 1 | 5/60
Maritime Operators | 40 | 1 | 5/60

Dated: May 13, 2011.
Daniel Holcomb,
Acting Reports Clearance Officer, Centers for Disease Control and Prevention.

[FR Doc. 2011-12469 Filed 5-19-11; 8:45 am]

BILLING CODE 4163-18-P